DEPARTMENT OF TRANSPORTATION

Federal Aviation Administration

14 CFR Part 39

[Docket No. FAA-2010-0277; Directorate Identifier 2009-NM-217-AD]

RIN 2120-AA64

Airworthiness Directives; The Boeing Company Model 767 Airplanes

AGENCY: Federal Aviation Administration (FAA), DOT.

ACTION: Notice of proposed rulemaking (NPRM).

SUMMARY: We propose to adopt a new airworthiness directive (AD) for certain Model 767 airplanes. This proposed AD would require repetitive inspections to detect fatigue cracking in the upper wing skin at the fastener holes common to the inboard and outboard front spar pitch load fittings, and corrective actions if necessary. This proposed AD results from reports of cracking in the upper wing skin at the fastener holes common to the inboard and outboard front spar pitch load fittings. We are proposing this AD to detect and correct fatigue cracking in the upper wing skin at the fastener holes common to the inboard and outboard front spar pitch load fittings, which could result in the loss of the strut-to-wing upper link load path and possible separation of a strut and engine from the airplane during flight.

DATES: We must receive comments on this proposed AD by May 13, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue, SW., Renton, Washington 98057-3356; telephone (425) 917-6577; fax (425) 917-6590.

SUPPLEMENTARY INFORMATION:

Comments Invited

We invite you to send any written relevant data, views, or arguments about this proposed AD. Send your comments to an address listed under the ADDRESSES section. Include “Docket No. FAA-2010-0277; Directorate Identifier 2009-NM-217-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Multiple operators have reported a total of 36 cracks in the upper wing skin at the fastener holes common to the inboard and outboard front spar pitch load fittings. The airplanes had accumulated between 11,700 and 39,900 total flight cycles, and between 28,700 and 83,100 total flight hours. The reported crack lengths were between 0.016 and 0.140 inch. All cracks were found during accomplishment of the open hole high frequency eddy current (HFEC) inspections given in Boeing service bulletins related to strut improvement—Boeing Service Bulletin 767-54-0080, dated October 7, 1999; Boeing Service Bulletin 767-54-0080, Revision 1, dated May 9, 2002; Boeing Service Bulletin 767-54-0081, dated July 29, 1999; Boeing Service Bulletin 767-54-0081, Revision 1, dated February 7, 2002; and Boeing Service Bulletin 767-54-0082, dated October 28, 1999. Further Boeing analysis has determined the cracks to be a result of fatigue due to higher than predicted fastener load and skin stress peaking along the aft fastener row. This cracking, if not detected and corrected, could result in the loss of the strut-to-wing upper link load path and possible separation of a strut and engine from the airplane during flight.

Relevant Service Information

We have reviewed Boeing Alert Service Bulletin 767-57A0117, dated October 1, 2009. This service bulletin describes procedures for repetitively inspecting the upper wing skin at the fastener holes common to the inboard and outboard front spar pitch load fittings for cracks and corrective actions. This service bulletin specifies to use detailed and ultrasonic inspection techniques to inspect the upper wing skin surface. For airplanes on which any cracking is found, the service bulletin also specifies the following corrective actions, as applicable: Removing cracks, installing and replacing new fasteners, repairing freeze plugs, and contacting Boeing for repair instructions and doing the repair.

The compliance time for the initial upper wing skin surface detailed and ultrasonic inspections, or for the open hole HFEC inspection, depends upon the configuration of the airplane as defined in Boeing Alert Service Bulletin 767-57A0117, dated October 1, 2009, and whether the airplane has been modified according to certain service bulletins. That service bulletin specifies the compliance time for the initial upper wing skin surface detailed and ultrasonic inspections as follows:

• For Group 1, Configuration 1 airplanes: Before 18,000 total flight cycles or 54,000 total flight hours (whichever occurs first).

• For Group 1, Configuration 2 airplanes: Within 11,000 flight cycles or 33,000 flight hours after completing the actions specified in Service Bulletin 767-54-0080 (whichever occurs first).

• For Group 2, Configuration 1 airplanes: Before 12,000 total flight cycles or 36,000 total flight hours (whichever occurs first).

• For Group 2, Configuration 2 airplanes: Before 12,000 flight cycles or 36,000 flight hours after completing the actions specified in Boeing Service Bulletin 767-54-0080 (whichever occurs first).

• For Group 3 airplanes: Before 12,000 total flight cycles or 36,000 total flight hours (whichever occurs first).

• For Group 4, Configuration 1 airplanes: Before 25,000 total flight cycles or 75,000 total flight hours (whichever occurs first).

• For Group 4, Configuration 2 airplanes: Within 17,000 flight cycles or 51,000 flight hours after completing the actions specified in Boeing Service Bulletin 767-54-0081 (whichever occurs first).

• For Group 5, Configuration 1 airplanes: Before 18,000 total flight cycles or 54,000 total flight hours (whichever occurs first).

• For Group 5, Configuration 2 airplanes: Within 15,000 flight cycles or 45,000 flight hours after completing the actions specified in Boeing Service Bulletin 767-54-0081 (whichever occurs first).

• For Group 6 airplanes: Before 18,000 total flight cycles or 54,000 total flight hours (whichever occurs first).

• For Group 7 airplanes: Before 18,000 total flight cycles or 54,000 total flight hours (whichever occurs first).

• For Group 8, Configuration 1 airplanes: Before 12,000 total flight cycles or 36,000 total flight hours (whichever occurs first).

• For Group 8, Configuration 2 airplanes: Within 9,000 flight cycles or 27,000 flight hours after completing the actions specified in Boeing Service Bulletin 767-54-0082 (whichever occurs first).

• For Group 9 airplanes: Before 12,000 total flight cycles or 36,000 total flight hours (whichever occurs first).

• For all airplanes: The service bulletin specifies a grace period of within 4,000 flight cycles or 12,000 flight hours after the date on the service bulletin, (whichever occurs first).

The service bulletin specifies repetitive intervals that range from 4,000 flight cycles or 12,000 flight hours (whichever occurs first), to 17,000 flight cycles or 51,000 flight hours (whichever occurs first), depending upon the configuration. The compliance time for all corrective actions is before further flight.

FAA's Determination and Requirements of This Proposed AD

We are proposing this AD because we evaluated all relevant information and determined the unsafe condition described previously is likely to exist or develop in other products of the same type design. This proposed AD would require accomplishing the actions specified in the service information described previously, except as discussed under “Differences Between the Proposed AD and Service Bulletin.”

Differences Between the Proposed AD and Service Bulletin

Boeing Alert Service Bulletin 767-57A0117, dated October 1, 2009, specifies to contact the manufacturer for instructions on how to repair certain conditions, but this proposed AD would require repairing those conditions in one of the following ways:

• Using a method that we approve; or

• Using data that meet the certification basis of the airplane, and that have been approved by the Boeing Commercial Airplanes Organization Designation Authorization that we have authorized to make those findings.

Interim Action

We consider this proposed AD interim action. The manufacturer is currently developing a modification that will address the unsafe condition identified in this AD. Once this modification is developed, approved, and available, we might consider additional rulemaking.

Costs of Compliance

We estimate that this proposed AD would affect 363 airplanes of U.S. registry. We also estimate that it would take about 2 work-hours per product to comply with this proposed AD. The average labor rate is $85 per work-hour. Based on these figures, we estimate the cost of this proposed AD to the U.S. operators to be $61,710, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2010-0277; Directorate Identifier 2009-NM-217-AD.

Comments Due Date

(a) We must receive comments by May 13, 2010.

Affected ADs

(b) None.

Applicability

(c) This AD applies to The Boeing Company Model 767-200, -300, -300F, and -400ER series airplanes, certificated in any category; as identified in Boeing Alert Service Bulletin 767-57A0117, dated October 1, 2009.

Subject

(d) Air Transport Association (ATA) of America Code 57: Wings.

Unsafe Condition

(e) This AD results from reports of fatigue cracking in the upper wing skin at the fastener holes common to the inboard and outboard front spar pitch load fittings. The Federal Aviation Administration is issuing this AD to detect and correct fatigue cracking in the upper wing skin at the fastener holes common to the inboard and outboard front spar pitch load fittings, which could result in the loss of the strut-to-wing upper link load path and possible separation of a strut and engine from the airplane during flight.

Compliance

(f) You are responsible for having the actions required by this AD performed within the compliance times specified, unless the actions have already been done.

Initial Inspection

(g) Except as provided by paragraph (j) of this AD, at the applicable time specified in paragraph 1.E., “Compliance,” of Boeing Alert Service Bulletin 767-57A0117, dated October 1, 2009: Do upper wing skin surface detailed and ultrasonic inspections, or do an open-hole high-frequency eddy current inspection, to detect cracking in the upper wing skin at the fastener holes common to the inboard and outboard front spar pitch load fittings, and do all applicable corrective actions, in accordance with the Accomplishment Instructions of Boeing Alert Service Bulletin 767-57A0117, dated October 1, 2009, except as required by paragraph (i) of this AD. Do all applicable corrective actions before further flight.

Repetitive Inspections

(h) At the applicable time specified in paragraph 1.E., “Compliance,” of Boeing Alert Service Bulletin 767-57A0117, dated October 1, 2009, repeat the applicable inspection required by paragraph (g) of this AD, in accordance with the Accomplishment Instructions of Boeing Alert Service Bulletin 767-57A0117, dated October 1, 2009.

Exceptions to the Service Bulletin

(i) If any cracking is found during any inspection required by this AD, and Boeing Alert Service Bulletin 767-57A0117, dated October 1, 2009, specifies to contact Boeing for appropriate action: Before further flight, repair the cracking using a method approved in accordance with the procedures specified in paragraph (k) of this AD.

(j) Where Boeing Alert Service Bulletin 767-57A0117, dated October 1, 2009, specifies a compliance time after the date on Boeing Alert Service Bulletin 767-57A0117, dated October 1, 2009, this AD requires compliance within the specified compliance time after the effective date of this AD.

Alternative Methods of Compliance (AMOCs)

(k)(1) The Manager, Seattle Aircraft Certification Office, FAA, has the authority to approve AMOCs for this AD, if requested using the procedures found in 14 CFR 39.19. Send information to ATTN: Berhane Alazar, Aerospace Engineer, Airframe Branch, ANM-120S, FAA, Seattle Aircraft Certification Office (ACO), 1601 Lind Avenue, SW., Renton, Washington 98057-3356; telephone (425) 917-6577; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by the Boeing Commercial Airplanes Organization Designation Authorization that has been authorized by the Manager, Seattle ACO, to make those findings. For a repair method to be approved, the repair must meet the certification basis of the airplane, and the approval must specifically refer to this AD.

Issued in Renton, Washington, on March 19, 2010.
Ali Bahrami,
Manager, Transport Airplane Directorate, Aircraft Certification Service.

[FR Doc. 2010-6851 Filed 3-26-10; 8:45 am]

BILLING CODE 4910-13-P